DEPARTMENT OF TRANSPORTATION

Maritime Administration

[USCG-2004-16877]

Cabrillo Port Liquefied Natural Gas Deepwater Port License Application; Final Public Hearing and Final Environmental Impact Statement/Final Environmental Impact Report

AGENCY: Maritime Administration, DOT.

ACTION: Notice of availability; notice of public hearing; request for comments.

SUMMARY: The Maritime Administration (MARAD) and the U.S. Coast Guard (USCG) announce the availability of the Final Environmental Impact Statement/Environmental Impact Report (FEIS/FEIR) for the Cabrillo Port Liquefied Natural Gas (LNG) Deepwater Port (DWP) license application. In addition, a public hearing will be held regarding the approval or denial of the license application. The proposed Cabrillo Port LNG DWP would be located offshore of Ventura County, California. Since the applicant has also filed a California State Lands Commission (CSLC) land lease application for subsea pipelines through California State waters to deliver natural gas to shore, the FEIS/FEIR was prepared in accordance with a Memorandum of Agreement with the CSLC. The FEIS/FEIR meets requirements consistent with the Deepwater Port Act (DWPA) of 1974, as amended (33 U.S.C. 1501 et seq.); the National Environmental Policy Act (NEPA Section 102[2][3]), as implemented by Council on Environmental Quality regulations (40 Code of Federal Regulations 1500 to 1508); and the California Environmental Quality Act (CEQA) (California Public Resources Code Section 21000 et seq.). The USCG and MARAD will receive public comments on the FEIS/FEIR and license application. Publication of this notice begins a 45 day comment period and provides information on how to participate in the process.

DATES: The FEIS/FEIR will be available on March 16, 2007. Material submitted in response to the request for comments on the FEIS/FEIR and application must reach the Docket Management Facility by April 30, 2007 ending the 45 day public comment period. The final public hearing will be held in Oxnard, CA on April 4, 2007, from 5 p.m. to 8 p.m. and will be preceded by an informational open house from 3 p.m. to 4:30 p.m. The public hearing may end later than the stated time, depending on the number of persons wishing to speak.

Federal and State agencies must submit comments, recommended conditions for licensing, or letters of no objection by May 21, 2007 (45 days after the final public hearing). In addition, by that same date, May 21, 2007, the Governor of California (the adjacent coastal state) may approve, disapprove, or notify MARAD of inconsistencies with State programs relating to environmental protection, land and water use, and coastal zone management for which MARAD may condition the license to make consistent with such State programs.

MARAD must issue a record of decision (ROD) to approve, approve with conditions, or deny the DWP license application by July 3, 2007 (90 days after the public hearing).

ADDRESSES: The USCG and MARAD will conduct a public hearing in Oxnard to receive oral or written comments on April 4, 2007 from 5 p.m. to 8 p.m. at the Performing Arts and Convention Center, Oxnard Room, 800 Hobson Way, Oxnard, California, 93030, telephone: (805) 486-2424.

The public meeting space will be wheelchair-accessible. Individuals may request special accommodations for the public hearing, such as real time Spanish translation and/or for the hearing impaired. Contact Raymond Martin, USCG, at 202-372-1449 Raymond.W.Martin@uscg.mil if special accommodations are required. Requests should be made as soon as possible but at least three (3) business days before the scheduled meeting. Include the name and telephone number of the contact person, the timelines for requesting accommodations, and a TDD number that can be used by individuals with hearing impairments.

The FEIS/FEIR, the application, comments and associated documentation are available for viewing at the DOT's Docket Management System Web site: http://dms.dot.gov under docket number 16877. The FEIS/FEIR is also available at public libraries in Oxnard (Albert H. Soliz Library and Main Library, Oxnard Public Libraries), Port Hueneme (Ray D. Prueter Library), Valencia (Valencia Library), and Malibu (Malibu Community Library).

Address docket submissions for USCG-2004-16877 to: Docket Management Facility, U.S. Department of Transportation, 400 Seventh Street, SW., Washington, DC 20590-0001.

The Docket Management Facility accepts hand-delivered submissions, and makes docket contents available for public inspection and copying at this address, in room PL-401, between 9 a.m. and 5 p.m., Monday through Friday, except Federal holidays. The Facility's telephone number is 202-366-9329, its fax number is 202-493-2251, and its web site for electronic submissions or for electronic access to docket contents is http://dms.dot.gov.

FOR FURTHER INFORMATION CONTACT: Information pertaining to the proposed Cabrillo Port Project is available online at http://dms.dot.gov, or http://www.slc.ca.gov. Questions regarding the proposed Project, the license application process, or the FEIS/FEIR process may be directed to Raymond Martin, U.S. Coast Guard, telephone: 202-372-1449, e-mail: Raymond.W.Martin@uscg.mil, or Keith Lesnick, MARAD, (202) 366-1624, e-mail: Keith.Lesnick@dot.gov.

If you have questions on viewing the docket, call Renee V. Wright, Program Manager, Docket Operations, telephone: 202-493-0402.

This public notice may be requested in an alternative format, such as Spanish translation, audiotape, large print, or Braille. Contact Raymond Martin, USCG, telephone: 202-372-1449, e-mail: Raymond.W.Martin@uscg.mil or visit http://www.cabrilloport.ene.com.

SUPPLEMENTARY INFORMATION:

Public Hearing and Open House

We invite you to learn about the proposed deepwater port at an informational open house, and to comment at a public hearing on the proposed action and the evaluation contained in the FEIS/FEIR. In order to allow all interested parties an opportunity to speak at the public hearing, we may limit speaker time, or extend the hearing hours, or both. You must identify yourself, and any organization you represent, by name. Your remarks will be recorded or transcribed for inclusion in the public docket. Additionally, written comments may be submitted at the open house or public hearing and a court reporter will be available to take comments during the open house for those wishing to make oral comments.

You may submit written material at the public hearing, either in place of or in addition to speaking. Written material must include your name and address, and will be included in the public docket.

Public docket materials will be made available to the public on the DOT Docket Management System (DMS). See “Request for Comments” for information about DMS and your rights under the Privacy Act.

Request for Comments

We will receive public comments or other relevant information on the FEIS/FEIR and application. The public hearing is not the only opportunity you have to comment. In addition to or in place of attending a hearing, you can submit comments to the Docket Management Facility during the public comment period (see DATES). The Coast Guard and MARAD will consider all relevant comments and materials received during the comment period.

Submissions should include:

• Docket number USCG-2004-16877.

• Your name and address.

• Your reasons for making each comment or for bringing information to our attention.

Submit comments or material using only one of the following methods:

• Electronic submission to DMS, http://dms.dot.gov.

• Fax, mail, or hand delivery to the Docket Management Facility (see ADDRESSES). Faxed or hand delivered submissions must be unbound, no larger than 8½ by 11 inches, and suitable for copying and electronic scanning. If you mail your submission and want to know when it reaches the Facility, include a stamped, self-addressed postcard or envelope.

Privacy Act

Regardless of the method used for submitting comments or material, submissions will be posted, without change, to the DMS Web site (http://dms.dot.gov), and will include any personal information you provide. Therefore, submitting this information makes it public. You may wish to read the Privacy Act notice that is available on the DMS website, or the Department of Transportation Privacy Act Statement that appeared in the Federal Register on April 11, 2000 (65 FR 19477).

You may view docket submissions at the Docket Management Facility (see ADDRESSES), or electronically on the DMS Web site.

Background

We published the Notice of Application for the proposed Cabrillo Port LNG deepwater port and information on regulations and statutes governing the license review process in the Federal Register at 69 FR 3934, January 27, 2004; the Notice of Intent to Prepare a joint EIS/EIR for the proposed action was published at 69 FR 9344, February 27, 2004; and the Notice of Availability of the Draft EIS/EIR was published at 69 FR 64578, November 5, 2004. Additionally, the State of California determined it was necessary to recirculate the Draft EIR due to several changes in the project. A Revised Draft EIR was published in March 2006. Information from the “Summary of the Application” from previous Federal Register notices is included below for your convenience.

Proposed Action

The proposed action requiring review is the Federal licensing of the proposed deepwater port described in “Summary of the Application” below. The actions available to MARAD are: (1) License the port with conditions (including conditions designed to mitigate environmental impact), or (2) deny the license, which for purposes of environmental review is the “no-action” alternative. These potential actions are more fully discussed in the FEIS/FEIR. The USCG and MARAD are the lead Federal agencies for the preparation of the EIS/EIR. You can address any questions about the proposed action or the FEIS/FEIR to the USCG project manager identified in FOR FURTHER INFORMATION CONTACT.

Summary of the Application

The Applicant proposes to construct and operate an offshore floating storage and regasification unit (FSRU) that would be moored in Federal waters approximately 12.01 nautical miles (13.83 statute miles or 22.25 kilometers) offshore of Ventura County in 2,900 feet (884 meters) of water. As proposed, LNG from the Pacific basin would be delivered to and offloaded from an LNG carrier onto the FSRU; re-gasified; and the natural gas would be delivered onshore via two 24 inch (0.6 meters) diameter natural gas pipelines totaling approximately 22.77 statute miles (36.64 kilometers) laid on the ocean floor. These pipelines would come onshore at Ormond Beach near Oxnard, California to connect with the existing Southern California Gas Company intrastate pipeline system to distribute natural gas throughout the Southern California region. The facilities would be designed to deliver an annual average of up to 0.8 billion cubic feet per day (bcfd) (22.7 million cubic meters per day) and peak delivery capacity of 1.5 bcfd (42.5 million cubic meters per day).

The FSRU would store LNG in three Moss spherical tanks. Each tank would have a 24 million gallon (90,800 cubic meters) LNG storage capacity, and the total FSRU LNG storage capacity would be approximately 72 million gallons (273,000 cubic meters). The FSRU would be permanently moored, and would use a turret system (a tower-like revolving structure) to allow the FSRU to weathervane (rotate) around a fixed point. A Safety Zone would be established covering a 500-meter (1,640-foot) radius out from the stern of the FSRU. The FSRU, which would be designed for loading LNG from side-by-side, moored LNG tankers, would be shaped like a double-sided, double-bottomed vessel, 971 feet (296 meters) long and 213 feet (65 meters) wide, with a displacement of approximately 190,000 deadweight tons.

Alternatives

The FEIS/FEIR examines and assesses the environmental impact of the project location and pipeline routes of the proposed action, alternatives, and the no-action alternative. In addition to the environmental impacts, the FEIS/FEIR considers approving, approving with conditions or denying (no action alternative) the application for a license.

Dated: March 9, 2007.
By Order of the Maritime Administrator.
Daron T. Threet,
Secretary, Maritime Administration.

[FR Doc. E7-4767 Filed 3-14-07; 8:45 am]

BILLING CODE 4910-81-P